DEPARTMENT OF HOMELAND SECURITY

Coast Guard

33 CFR Part 117

[CGD08-04-030]

RIN 1625-AA09

Drawbridge Operation Regulation; Berwick Bay—Atchafalaya River—Gulf Intracoastal Waterway (Morgan City to Port Allen Alternate Route), LA

AGENCY: Coast Guard, DHS.

ACTION: Notice of temporary deviation from regulations.

SUMMARY: The Commander Eighth Coast Guard District is issuing a temporary deviation from the regulation governing the operation of the Burlington Northern & Santa Fe (BNSF) Railway Vertical Lift Span Railroad Bridge across Berwick Bay—Atchafalaya River, mile 17.5 and the Gulf Intracoastal Waterway (Morgan City to Port Allen Alternate Route, mile 0.4), at Morgan City, St. Mary Parish, Louisiana. This deviation will allow the Burlington Northern & Santa Fe Railway Company to close the bridge to navigation from 8 a.m. until 2 p.m. each day from Monday, August 16, 2004, through Wednesday, August 18, 2004, to conduct necessary maintenance on the bridge.

DATES: This temporary deviation is effective from 8 a.m. on Monday, August 16, 2004, until 2 p.m. on Wednesday, August 18, 2004.

ADDRESSES: Materials referred to in this temporary deviation are available for inspection or copying at the office of the Eighth Coast Guard District, Bridge Administration Branch, Hale Boggs Federal Building, room 1313, 500 Poydras Street, New Orleans, Louisiana 70130-3310, between 7 a.m. and 3 p.m., Monday through Friday, except Federal holidays. The telephone number is (504) 589-2965. The Eighth District Bridge Administration Branch maintains the public docket for this temporary deviation.

FOR FURTHER INFORMATION CONTACT: Phil Johnson, Bridge Administration Branch, telephone (504) 589-2965.

SUPPLEMENTARY INFORMATION: The BNSF Railway Company requested a temporary deviation from the normal operation of the drawbridge in order to replace railroad rails on the lift span of the bridge. This maintenance is essential for the continued safe transit of trains across the bridge. This temporary deviation will allow the bridge to remain in the closed-to-navigation position from 8 a.m. until 2 p.m. each day from Monday, August 16, 2004, through Wednesday, August 18, 2004. In the event of an approaching tropical storm or hurricane, the work will be rescheduled and the bridge will continue to operate normally.

The bridge has a vertical clearance of 4 feet above high water in the closed-to-navigation position and 73 feet above high water in the open-to-navigation position. Navigation on the waterway consists of tugs with tows, oil industry related work boats and crew boats, commercial fishing vessels and some recreational craft. Since the lift span of the bridge will only be closed for six hours per day for three days, ample time will be allowed for commercial and recreational vessels to schedule transits. For this reason, as well as considering prior experience with similar closures of this bridge, it has been determined that this closure will not have a significant effect on these vessels. The Intracoastal Waterway—Morgan City to Port Allen Route and the Landside Route, including Bayou Boeuf is an alternate route for vessels not requiring greater than a 12-foot draft. The bridge will not be able to open for emergencies during the 6-hour per day closure periods.

In accordance with 33 CFR 117.35(c), this work will be performed with all due speed in order to return the bridge to normal operation as soon as possible. This deviation from the operating regulations is authorized under 33 CFR 117.35.

Dated: July 22, 2004.
Marcus Redford,
Bridge Administrator.

[FR Doc. 04-17688 Filed 8-3-04; 8:45 am]

BILLING CODE 4910-15-P